OFFICE OF THE DIRECTOR OF NATIONAL INTELLIGENCE

Notice of Establishment of the National Intelligence University (NIU) Board of Visitors (BoV)

AGENCY: Office of the Director of National Intelligence (ODNI).

ACTION: Notice.

SUMMARY: The ODNI, announces the establishment of the NIU BoV by the Director of National Intelligence (DNI). The BoV will provide the DNI with independent advice and recommendations on matters concerning the NIU. Duration of this Board is for two years unless renewed by the DNI.

DATES: The proposed NIU BoV Charter will be filed on December 26, 2022 unless comments are received that result in a contrary determination.

FOR FURTHER INFORMATION CONTACT: Executive Vice President, NIU, ODNI, Patricia Larsen, 301-243-2121, excom@odni.gov.

SUPPLEMENTARY INFORMATION:

I. Background and Authority

Pursuant to 50 U.S.C. 3227c, 41 CFR part 102-3, and the Federal Advisory Committee Act of 1972 (5 U.S.C. appendix, as amended), the ODNI, announces the establishment of the NIU BoV by the Director of National Intelligence (DNI).

The NIU is the Intelligence Community's (IC) sole accredited, federal degree-granting institution. Cleared government students, representing a mixture from federal agencies and all branches of the United States Armed Services, come to NIU to gain knowledge, drive debate, participate in collaborative learning and information sharing, and engage in research concerning intelligence and national security topics in a classified setting. Previously, NIU was part of the Defense Intelligence Agency (DIA). However, Congress subsequently mandated that the DNI and the Secretary of Defense work together to transition the NIU from the DIA and into the ODNI. See Section 5324(b)(l) of the National Defense Authorization Act (NDAA) for Fiscal Year (FY) 2020 (Pub. L. 116-92).

The NIU BoV shall provide the DNI independent advice and recommendations on NIU matters, including, but not limited to, mission, policy, accreditation, faculty, students, facilities, curricula, educational methods, research, and administration. The BoV fulfills a key element of the NIU's accreditation in ensuring that its primary purpose is educational and that it operates as an academic institution with appropriate autonomy. As such, its functions cannot be performed by the ODNI, another existing committee, or other means.

The NIU BoV is essential to the NIU's administration and continued accreditation. As the IC's sole degree-granting institution, NIU is the leading institution for intelligence education, in-depth research, and interagency engagement. NIU's continued service to the national security community, under BoV guidance, is in the public interest.

II. Structure

The Board shall consist of up to 12 members, including the Chair. Members are appointed to provide advice on the basis of their best judgment without representing any particular points of view and in a manner that is free from conflict of interest.

The members and chair shall possess extensive professional experience in the fields of national intelligence, national defense, or academia.

As necessary, subordinate subcommittees may be established with the approval of the DNI or designee to perform specific functions within the Board's purview.

Members shall be invited to serve for consecutive terms of one year, for a total not to exceed six years.

Meetings shall be held a minimum of two times per year at the call of the Designated Federal Official or designee who shall approve the agenda and shall be present at all meetings.

III. Compensation

NIU BoV members who are not Regular Government Employees (RGE) will not be paid salaries, wages, or compensation attributable to their services. If necessary and if requested, members may be reimbursed for travel and daily expenses incurred in connection with their service in accordance with the Federal Travel Regulations. Participating RGEs will continue to receive their government salary and may receive government per diem and travel allowances for any applicable NIU BOV-related work.

Dated: December 7, 2022.
Robert A. Newton,
Deputy Chief Operating Officer.

[FR Doc. 2022-27045 Filed 12-13-22; 8:45 am]

BILLING CODE 3910-A79-P-P